DEPARTMENT OF TRANSPORTATION

Federal Aviation Administration

[Docket No. FAA-2022-0641]

Agency Information Collection Activities: Requests for Comments; Clearance of a Renewed Approval of Information Collection: Employee Assault Prevention and Response Plan

AGENCY: Federal Aviation Administration (FAA), DOT.

ACTION: Notice and request for comments.

SUMMARY: In accordance with the Paperwork Reduction Act of 1995, FAA invites public comments about our intention to request the Office of Management and Budget (OMB) approval to renew an information collection. The collection involves submission of Employee Assault Prevention and Response Plans (EAPRP), for customer service agents of certificate holders conducting operations. The certificate holders will submit the information to be collected to the FAA for review and acceptanc as required by the FAA Reauthorization Act of 2018.

DATES: Written comments should be submitted by August 30, 2022.

ADDRESSES: Please send written comments:

By Electronic Docket: www.regulations.gov (Enter docket number into search field).

By Mail: Sheri A. Martin, Federal Aviation Administration, Safety Standards, AFS-200 Division, 777 S Aviation Blvd., Suite 150, El Segundo, CA 90245.

By Fax: 424-405-7218.

FOR FURTHER INFORMATION CONTACT: Daniel T. Ronneberg by email at: Dan.Ronneberg@faa.gov; phone: 202-267-1216.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0787.

Title: Employee Assault Prevention and Response Plan.

Form Numbers: There are no forms associated with this collection.

Type of Review: Renewal of an information collection.

Background: On October 5, 2018, Congress enacted Public Law 115-254, the FAA Reauthorization Act of 2018 (“the Act”). Section 551 of the Act required air carriers operating under 14 CFR part 121 to submit to the FAA for review and acceptance an Employee Assault Prevention and Response Plan (EAPRP) related to the customer service agents of the air carrier that is developed in consultation with the labor union representing such agents. Section 551(b) of the Act contains the required contents of the EAPRP, including reporting protocols for air carrier customer service agents who have been the victim of a verbal or physical assault.

Respondents: Nine Part 121 Air Carriers.

Frequency: Once for submission or revision of the plan.

Estimated Average Burden per Response: 22 hours.

Estimated Total Annual Burden: $5,594.00.

Issued in Washington, DC, on June 27, 2022.
Sheri Martin,
Management and Program Analyst, FAA, Safety Standards, AFS-200 Division.

[FR Doc. 2022-14092 Filed 6-30-22; 8:45 am]

BILLING CODE 4910-13-P